DEPARTMENT OF ENERGY

Agency Information Collection Extension

AGENCY: Department of Energy.

ACTION: Submission for Office of Management and Budget (OMB) Review; Comment Request.

SUMMARY: The Department of Energy (DOE) has submitted an information collection request to the OMB for extension under the provisions of the Paperwork Reduction Act of 1995. The information collection requests a three-year extension of its Procurement Collection, OMB Control Number 1910-4100. This information collection request covers information necessary to administer and manage DOE's procurement and acquisition programs.

DATES: Comments regarding this collection must be received on or before August 25, 2011. If you anticipate that you will be submitting comments, but find it difficult to do so within the period of time allowed by this notice, please advise the OMB Desk Officer of your intention to make a submission as soon as possible. The Desk Officer may be telephoned at 202-395-4650.

ADDRESSES: Written comments should be sent to all of the following: DOE Desk Officer, Office of Information and Regulatory Affairs, Office of Management and Budget, New Executive Office Building Room 10102, 735 17th Street, NW., Washington, DC 20503.

If you wish access to the collection of information, without charge, contact the person listed below as soon as possible. Richard Langston, Procurement Analyst, MA-611/L'Enfant Plaza Building, U.S. Department of Energy, 1000 Independence Avenue, SW., Washington, DC, 20585-1615, Richard.Langston@hq.doe.gov.

FOR FURTHER INFORMATION CONTACT: Richard Langston at the above address, or by telephone at (202) 287-1339.

SUPPLEMENTARY INFORMATION: This information collection request contains:

(1) OMB No. 1910-4100 (Renewal); (2) Information Collection Request Title: Procurement Information Collection; (3) Purpose: Under 48 CFR part 952 and Subpart 970.52, DOE must collect certain types of information from those seeking to do business with the Department or those awarded contracts by the Department. This package contains information collections necessary for the solicitation, award, administration, and closeout of procurement contracts. (4) Annual Estimated Number of Respondents: 7,529; (5) Annual Estimated Total Burden Hours: 896,199; (6) Annual Estimated Reporting and Recordkeeping Cost Burden: $88,658,949.

Statutory Authority: 42 U.S.C. 2201.

Issued in Washington, DC on July 20, 2011.
Patrick Ferraro,
Acting Director, Office of Procurement and Assistance Management, Department of Energy.

[FR Doc. 2011-18850 Filed 7-25-11; 8:45 am]

BILLING CODE 6450-01-P